FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR part 67

Administrative practice and procedure, Flood insurance, Reporting and recordkeeping requirements.

Accordingly, 44 CFR part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) • Elevation in feet (NAVD)
CONNECTICUT
New Haven (Town), New Haven County (FEMA Docket No. D-7524)
Maloney Brook:
Approximately 10 feet upstream of the confluence with Farm River | *36
Approximately 50 feet upstream of Foxon Hill Road | *105
Maps available for inspection at the East Haven Public Works Building, 461 North High Street, East Haven, Connecticut.
ILLINOIS
Champaign County (Unincorporated Areas) (FEMA Docket No. D-7528)
Sangamon River:
Approximately 1,000 feet downstream from the Township Road 2000 North (Shively) bridge | *676
At Lake of the Woods covered bridge | *689
Maps available for inspection at the Champaign County Department of Planning and Zoning, Brookens Administrative Center, 1776 East Washington Street, Urbana, Illinois.
———
Elburn (Village), Kane County (FEMA Docket No. D-7516)
Blackberry Creek:
At the confluence of Blackberry Creek Tributary D | *741
Approximately 1,050 feet upstream of Hughes Road | *747
Blackberry Creek Tributary D:
Approximately 600 feet upstream of confluence with Blackberry Creek | *742
Approximately 2,550 feet downstream of Keslinger Road | *799
Maps available for inspection at the Elburn Village Hall, 301 East North Street, Elburn, Illinois.
———
Elgin (City), Kane County (FEMA Docket No. D-7516)
Sandy Creek:
At Randall Road | *826
Approximately 325 feet upstream of Randall Road | *826
Tyler Creek:
Approximately 500 feet upstream of confluence with Fox River | *715
Approximately 120 feet downstream of Soo Line Railroad | *839
Maps available for inspection at the City of Elgin Public Works Department, Engineering Division, 150 Dexter Court, Elgin, Illinois.
———
Gilberts (Village), Kane County (FEMA Docket No. D-7516)
Tyler Creek:
Just upstream of Big Timber Road | *867
Approximately 200 feet downstream of McCornack Road | *866
Maps available for inspection at the Gilberts Village Hall, 87 Galligan Road, Gilberts, Illinois.
———
Kane County (Unincorporated Areas) (FEMA Docket No. D-7516)
Blackberry Creek Tributary F:
Approximately 0.6 mile upstream of confluence with Blackberry Creek Tributary B | *703
Approximately 250 feet downstream of Bliss Road | *727
Main Street Ditch:
At confluence with Blackberry Creek Tributary F | *707
Approximately 130 feet upstream of Main Street | *709
Tyler Creek:
Approximately 375 feet downstream of Eagle Road East | *793
Approximately 200 feet upstream of Illinois Route 72 | *898
Pingree Creek:
At confluence with Tyler Creek | *893
Approximately 325 feet upstream of U.S. Route 20 | *906
Mastadon Lake:
Approximately 300 feet southeast of the intersection of Parker Avenue and Hinman Street | *662
Sandy Creek:
Approximately 130 feet downstream of Randall Road | *821
Just downstream of U.S. Route 20 | *889
Indian Creek:
Approximately 0.41 mile upstream of Wood Street | *676
At downstream side of East-West Tollway | *717
Indian Creek Tributary B:
Approximately 0.61 mile upstream of confluence with Indian Creek | *716
Approximately 0.86 mile upstream of confluence with Indian Creek | *716
South Tributary:
At confluence with Indian Creek | *684
Approximately 680 feet upstream of confluence with Indian Creek | *688
Welch Creek:
Approximately 1,110 feet downstream of Fay's Lane | *680
Just upstream of Burlington Northern Railroad | *692
Welch Creek Tributary 1:
Just upstream of Aurora Municipal Airport | *693
Approximately 2,600 feet upstream of Aurora Municipal Airport | *694
Blackberry Creek Tributary H:
Approximately 750 feet southwest of Lake View Court and Lake View Drive intersection | *670
Selmarten Creek:
At confluence with Indian Creek | *716
At county boundary | *720
Maps available for inspection at the Kane County Water Resources Department, Kane County Government Center Building “A,” 719 Batavia Avenue, Geneva, Illinois.
———
Lily Lake (Village), Kane County (FEMA Docket No. D-7516)
Ferson Creek:
Approximately 100 feet downstream of Great Western Trail Railroad | *862
Just downstream of Route 64 | *872
Maps available for inspection at the Lily Lake Village Hall, 43W680 Empire Road, St. Charles, Illinois.
———
Mahomet (Village), Champaign County (FEMA Docket No. D-7528)
Sangamon River:
Approximately 800 feet downstream of downstream corporate limits | *677
Approximately 1,800 feet downstream of upstream corporate limits | *689
Maps available for inspection at the Mahomet Village Hall, 503 East Main Street, Mahomet, Illinois.
———
Montgomery (Village), Kane County (FEMA Docket No. D-7516)
Blackberry Creek Tributary G:
Approximately 2,050 feet downstream of Aucutt Road | *661
Approximately 550 feet downstream of Jericho Road | *666
Blackberry Creek:
Approximately 0.4 mile downstream of Jericho Road | *664
At Jericho Road | *666
Maps available for inspection at the Montgomery Village Clerk's office, 1300 South Broadway, Montgomery County, Illinois.
———
Pingree Grove (Village), Kane County (FEMA Docket No. D-7516)
Pingree Creek:
Approximately 1,000 feet upstream of Highland Avenue | *901
Approximately 800 feet upstream of Soo Line Railroad | *902
Maps available for inspection at the Pingree Grove Village Hall, 14N042 Reinking Road, Hampshire, Illinois.
———
Sugar Grove (Village), Kane County (FEMA Docket No. D-7516)
Blackberry Creek:
Approximately 1,050 feet upstream of Densmore Road | *678
Approximately 1,800 feet upstream of Bliss Road | *690
Blackberry Creek Tributary E:
At confluence with Blackberry Creek | *680
At Mankes Road | *680
Maps available for inspection at the Sugar Grove Village Office, 10 Municipal Drive, Sugar Grove, Illinois.
MAINE
Wells (Town), York County (FEMA Docket No. D-7504)
Atlantic Ocean:
Approximately 300 feet east of the intersection of Bourne Avenue and Ocean Avenue | *20
Approximately 100 feet west of the intersection of Mile Road and Webhannet Drive | *10
Approximately 50 feet northwest of the intersection of Seaview Drive and Webhannet Drive | #1
Approximately 100 feet southeast of the intersection of Drakes Island Road and Drakes Island Beach Road | #2
At intersection of Furbush Road and Ocean Avenue | #1
Approximately 200 feet southeast of the intersection of Webhannet Drive and Folsom Street | #2
Depot Brook:
Approximately 0.38 mile downstream of U.S. Route 1 | *10
Approximately 0.25 mile downstream of U.S. Route 1 | *10
Little River:
Approximately 0.62 mile upstream of mouth | *10
At confluence of Merriland River | *10
Merriland River:
At confluence with the Little River | *10
Approximately 125 feet downstream of Lords Road | *10
Ogunquit River:
At confluence of Stevens Brook | *10
Approximately 260 feet downstream of U.S. Route 1 | *10
Stevens Brook:
Approximately 2.00 miles above confluence with Ogunquit River | *10
Approximately 0.31 mile downstream of U.S. Route 1 | *10
Webhannet River:
Approximately 0.72 mile downstream of U.S. Route 1 | *10
Approximately 215 feet downstream of U.S. Route 1 | *10
Maps available for inspection at the Wells Town Hall, Planning & Code Enforcement Office, 208 Sanford Road, Wells, Maine.
MASSACHUSETTS
Worcester (City), Worcester County (FEMA Docket No. D-7524)
Broad Meadow Brook:
Approximately 240 feet downstream of U.S. Highway 20 | *450
Approximately 1.6 miles upstream of U.S. Highway 20 | *484
Beaver Brook:
Approximately 175 feet downstream of Mill Street bridge | *480
At Maywood Street | *481
Maps available for inspection at the Worcester Environmental/Land Use Planner's Office, 25 Meade Street, Worcester, Massachusetts.
NEW JERSEY
Florham Park (Borough), Morris County (FEMA Docket No. D-7524)
Spring Garden Brook:
Approximately 200 feet downstream of Brooklake Road | *175
At the upstream corporate limits | *182
Maps available for inspection at the Florham Park Municipal Building, Public Works Office, 111 Ridgedale Avenue, Florham Park, New Jersey.
———
Rahway (City), Union County (FEMA Docket No. D-7524)
Rahway River:
At the downstream corporate limits | *9
Approximately 30 feet upstream of Monroe Street | *11
South Branch:
At the confluence with the Rahway River | *11
Approximately 528 feet downstream of East Inman Avenue | *11
Maps available for inspection at the Rahway City Hall, Department of Engineering, City Hall Plaza, Rahway, New Jersey.
———
Weymouth (Township), Atlantic County (FEMA Docket No. D-7528)
Tuckahoe River:
At the downstream corporate limits | *56
At the upstream corporate limits | *77
Great Egg Harbor River:
At the confluence of the South River | *9
At the upstream corporate limits | *9
South River:
At Walkers Forge Avenue | *16
Approximately 500 feet upstream of upstream corporate limits | *38
Maps available for inspection at the Weymouth Township Hall, 45 South Jersey Avenue, Dorothy, New Jersey.
NEW YORK
Mina (Town), Chautauqua County (FEMA Docket No. D-7524)
Findley Lake:
Entire shoreline of Findley Lake | *1,423
Maps available for inspection at Mina Town Community Center, 2883 North Road, Findley Lake, New York.
———
Sardinia (Town), Erie County (FEMA Docket No. D-7528)
Hosmer Brook:
Approximately 0.83 mile downstream of State Route 39 | *1,320
Approximately 80 feet upstream of Genesee Road | *1,408
Maps available for inspection at the Sardinia Community Center, 12320 Savage Road, Sardinia, New York.
TENNESSEE
Fairview (City), Williamson County (FEMA Docket No. D-7524)
Hunting Camp Creek:
At upstream side of Fernvale Road | *703
A point approximately 0.75 mile upstream of Chester Road | *822
Hunting Camp Creek Tributary No. 2:
At Fernvale Road | *701
Approximately 30 feet upstream of Chester Road | *794
Hunting Camp Creek Tributary No. 3:
At Fernvale Road | *701
Approximately 275 feet upstream of State Route 100 | *804
Hunting Camp Creek Tributary No. 4:
At the confluence with Hunting Camp Creek Tributary No. 3 | *721
Approximately 200 feet upstream of Chester Road | *798
Hunting Camp Creek Tributary No. 5:
At the confluence with Hunting Camp Creek Tributary No. 2 | *790
Approximately 20 feet upstream of Chester Road | *794
Maps available for inspection at the Fairview City Hall, 1874 Fairview Boulevard, Fairview, Tennessee.
———
Franklin (City), Williamson County (FEMA Docket No. D-7283)
Watson Branch:
Approximately 1,625 feet upstream of confluence with Harpeth River | *644
Approximately 75 feet downstream of Murfreesboro Pike | *699
South Prong Creek:
Approximately 75 feet upstream of confluence with Spencer Creek | *663
Approximately 1,100 feet upstream of Liberty Pike | *729
Unnamed Tributary to South Prong Creek:
At confluence with South Prong Creek | *682
Approximately 715 feet upstream of confluence with South Prong Creek | *689
Maps available for inspection at the Franklin City Hall, Code Department, 109 Third Avenue South, Franklin, Tennessee.
———
Murfreesboro (City), Rutherford County (FEMA Docket No. D-7524)
Lytle Creek:
At the confluence with West Fork Stones River | *573
At a point approximately 200 feet upstream of Country Club Drive | *602
Sinking Creek:
At the confluence with West Fork Stones River | *547
Approximately 0.6 mile upstream of Thompson Lane | *547
Unnamed Tributary of West Fork Stones River:
At the confluence with West Fork Stones River | *586
Approximately 0.54 mile upstream of confluence with West Fork Stones River | *586
West Fork Stones River:
Approximately 0.7 mile upstream of I-840 | *543
At the confluence of Middle Fork Stones River | *595
Todds Lake:
Entire shoreline within the community | *613
Sink Hole #1:
Entire perimeter of the sink hole | *607
Middle Fork Stones River:
At the confluence with West Fork Stones River | *595
Approximately 0.5 2 mile upstream of confluence with West Fork Stones River | *596
Sink Hole #2:
Entire perimeter of the sink hole | *595
Sink Hole #3:
Entire perimeter of the sink hole | *585
Maps available for inspection at the City of Murfreesboro Planning Department, City Hall, 111 West Vine Street, Murfreesboro, Tennessee.
——
Rutherford County (Unincorporated Areas) (FEMA Docket No. D-7524)
Lytle Creek:
At a point approximately 455 feet upstream of Sanbyrn Drive | *599
At a point approximately 1.26 miles upstream of Dilton-Mankin Road | *656
West Fork Stones River:
At a point approximately 0.35 mile upstream of Sulphur Springs Road | *525
At a point approximately 1.28 miles upstream of Stones River Road | *675
Sinking Creek:
At the confluence with West Fork Stones River | *547
Approximately 250 feet downstream of Thompson Lane | *547
Lees Spring Branch:
At the confluence with Lytle Creek | *620
Approximately 500 feet upstream of confluence with Lytle Creek | *620
Unnamed Tributary of West Fork Stones River:
Approximately 0.54 mile upstream of confluence with West Fork Stones River | *586
Approximately 106 feet upstream of State Highway 99 | *588
Todds Lake:
Entire shoreline within the community | *613
Middle Fork Stones River:
At the confluence with West Fork Stones River | *595
Approximately 0.52 mile upstream of confluence with West Fork Stones River | *596
Maps available for inspection at the Rutherford County Planning Department, #1 Southside Square, Murfreesboro, Tennessee.
———
Williamson County (Unincorporated Areas) (FEMA Docket Nos. D-7283 and D-7524)
Brush Creek:
At county boundary | *548
Approximately 1.57 miles upstream of Old Brush Creek Road | *676
Harrison Branch Creek:
Confluence with Brush Creek | *556
Approximately 125 feet downstream of unnamed road | *668
Hunting Camp Creek:
Approximately 55 feet downstream of the confluence with Hunting Camp Creek Tributary No. 3 | *680
At upstream side of Fernvale Road | *703
Hunting Camp Creek Tributary No. 2:
At the confluence with Hunting Camp Creek | *684
At Fernvale Road | *701
Hunting Camp Creek Tributary No. 3:
At the confluence with Hunting Camp Creek | *681
At upstream side of Fernvale Road | *702
Leipers Fork:
Just upstream of Bailey Road | *670
At downstream side of Bear Creek Road | *727
East Fork Creek:
At county boundary | *587
Approximately 900 feet upstream of most upstream crossing of Big East Fork Road | *692
Beech Creek:
Confluence with Little Harpeth River | *600
Approximately 700 feet downstream of Murry Lane | *649
Trace Creek:
Approximately 50 feet downstream of county boundary | *569
Approximately 100 feet downstream of Natchez Bend Road | *642
Mill Creek:
Approximately 520 feet upstream of Concord Road | *557
Approximately 264 feet upstream of Rocky Fork Road | *612
Owl Creek:
Approximately 0.46 mile upstream of Ragsdale Road | *650
At downstream side of Split Log Road | *677
Unnamed Tributary of Mill Creek:
Approximately 100 feet upstream of confluence with Mill Creek | *600
Approximately 1,150 feet upstream of confluence with Mill Creek | *603
Watson Branch:
Approximately 275 feet downstream of Murfreesboro Road | *698
Approximately 75 feet downstream of Murfreesboro Road | *699
Maps available for inspection at the Williamson County Complex, Planning Department, 1320 West Main Street, Suite 125, Franklin, Tennessee.
VIRGINIA
Grottoes (Town), Augusta and Rockingham Counties (FEMA Docket No. D-7524)
Miller Run:
Approximately 160 feet downstream of 21st Street | *1,090
Approximately 60 feet upstream of Cary Street | *1,152
Maps available for inspection at the Grottoes Town Office, 601 Dogwood Avenue, Grottoes, Virginia.

(Catalog of Federal Domestic Assistance No. 83.100, “Flood Insurance”)
Dated: August 30, 2002.
Anthony S. Lowe,
Administrator, Federal Insurance and Mitigation Administration.

[FR Doc. 02-22825 Filed 9-6-02; 8:45 am]

BILLING CODE 6718-04-P